DEPARTMENT OF LABOR

Agency Information Collection Activities; Submission for OMB Review; Comment Request, Employer Adoption of Voluntary Health and Safety Standards, New Collection

AGENCY: Office of the Assistant Secretary for Policy, Chief Evaluation Office, Department of Labor.

ACTION: Notice of Information Collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, the Department of Labor is soliciting comments concerning the collection of data about Employer Adoption of Voluntary Health and Safety Standards. A copy of the proposed Information Collection Request (ICR) can be obtained by contacting the office listed below in the addressee section of this notice.

DATES: Written comments must be submitted to the office listed in the addressee section below on or before February 18, 2020.

ADDRESSES: You may submit comments by either one of the following methods: Email: ChiefEvaluationOffice@dol.gov; Mail or Courier: Chayun Yi, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Chayun Yi by email at ChiefEvaluationOffice@dol.gov or by phone at (202) 693-5084.

SUPPLEMENTARY INFORMATION: I. Background: In recent years, a number of national and international organizations have developed voluntary consensus-based standards designed to help organizations manage workplace safety and health in a systematic way. The first of these, Occupational Health and Safety Assessment Series (OHSAS) 18001, was published in 1999. After its adoption in 2007 as an official British standard, OHSAS 18001 gained broader acceptance worldwide. In 2005, the U.S. published its first national standard, ANSI/AIHA Z10, which was revised in 2012. Most recently, in 2018, the International Organization for Standardization (ISO) published an international standard, ISO 45001.

All of these are based on principles such as those found in ISO 9001, a standard that help organizations manage quality, and ISO 14001, a standard focused on environmental management. Each promotes a continuous process in which the organization establishes goals, implements programs and actions to achieve those goals, monitors and evaluates its performance and progress, and makes adjustments to improve the system and its performance. Organizations that adopt these standards may choose to have their conformance certified by an accredited third party auditor.

The Chief Evaluation Office (CEO) of the U.S. Department of Labor (DOL) is conducting a study to assess employers' adoption of voluntary consensus-based safety and health standards. The goal of this study is to better understand how these voluntary standards are developed and administered, the types of organizations that adopt such standards and their motivation for doing so, the perceived and actual benefits and costs of their adoption, their relationship to Occupational Safety and Health Administration (OSHA) standards, and the extent to which the standards promote compliance. OSHA's Voluntary Protection Program (VPP) is not included in this study because unlike the standards described above it was not developed through a voluntary industry consensus process.

As part of this effort, CEO intends to collect data from employers who have adopted these standards. Specifically, CEO intends to collect information on:

1. The types of employers that adopt these standards and their motivation for doing so. This will include information that characterize the demographics of the companies that adopt these standards (size, industry sector, etc.) and their health and safety practices.

2. The perceived and actual benefits and costs of adopting voluntary standards. This will include information on the perceived or actual changes in injuries or illnesses, workplace safety, employee morale, productivity, turnover, profitability. CEO will also collect information on the costs of implementing these programs.

CEO intends to compare these data to information from other sources on the companies that have not adopted voluntary safety and health management systems.

This Federal Register Notice provides the opportunity to comment on CEO's proposed data collection and the approach that CEO plans to use in collecting these data.

II. Desired Focus of Comments: Currently, the Department of Labor is soliciting comments concerning the above data collection for its study to assess employer adoption of voluntary health and safety programs. DOL is particularly interested in comments that do the following:

○ Evaluate whether the proposed collection of information is necessary for the proper performance functions of the agency, including whether the information will have practical utility;

○ evaluate the accuracy of the agency's burden estimate of the proposed information collection, including the validity of the methodology and assumptions;

○ enhance the quality, utility, and clarity of the information to be collected; and

○ minimize the burden of the collection of information on those who are to respond, including through the use of appropriate automated, electronic, mechanical, or other technological collection techniques or other forms of information technology—for example, permitting electronic submissions of responses.

III. Current Actions: At this time, the Department of Labor is requesting clearance for a survey of companies that have adopted voluntary safety and health management systems.

Type of Review: New information collection request.

OMB Control Number: 1290-0NEW.

Affected Public: Companies that have adopted voluntary safety and health management systems.

Comments submitted in response to this request will be summarized and/or included in the request for Office of Management and Budget approval of the information collection request; they will also become a matter of public record.

Estimated Annual Burden Hours
Type of instrument (form/activity) | Number of respondents | Number of responses per respondent | Total number of responses | Average burden time per response (hours) | Estimated burden hours
Employer Survey | 1,000 | 1 | 1,000 | 0.50 | 500

Christina Yancey,
Chief Evaluation Officer, U.S. Department of Labor.

[FR Doc. 2019-27330 Filed 12-18-19; 8:45 am]

BILLING CODE 4510-HX-P